DEPARTMENT OF TRANSPORTATION

Federal Aviation Administration

14 CFR Part 39

[Docket No. 2000-NM-224-AD]

RIN 2120-AA64

Airworthiness Directives; British Aerospace (Jetstream) Model 4101 Airplanes

AGENCY: Federal Aviation Administration, DOT.

ACTION: Notice of proposed rulemaking (NPRM).

SUMMARY: This document proposes the supersedure of an existing airworthiness directive (AD), applicable to all British Aerospace (Jetstream) Model 4101 airplanes, that currently requires repetitive inspections to detect loose or migrated levers of the elevator cable tension regulators, and replacement of the regulator assembly with a new assembly, if necessary. This action would require modification of the elevator cable tension regulator lever assembly, terminating the repetitive inspections. The proposal is prompted by issuance of mandatory continuing airworthiness information by a foreign civil airworthiness authority. The actions specified by the proposed AD are intended to prevent the elevator cable tension regulator from becoming detached from the splined shaft of the assembly, which could result in difficulty adjusting the elevators, leading to reduced controllability of the airplane.

DATES: Comments must be received by January 4, 2001.

ADDRESSES: Submit comments in triplicate to the Federal Aviation Administration (FAA), Transport Airplane Directorate, ANM-114, Attention: Rules Docket No. 2000-NM-224-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-224-AD” in the subject line and need not be submitted in triplicate. Comments sent via the Internet as attached electronic files must be formatted in Microsoft Word 97 for Windows or ASCII text.

The service information referenced in the proposed AD may be obtained from British Aerospace Regional Aircraft American Support, 13850 Mclearen Road, Herndon, Virginia 20171. This information may be examined at the FAA, Transport Airplane Directorate, 1601 Lind Avenue, SW., Renton, Washington.

FOR FURTHER INFORMATION CONTACT: Dan Rodina, Aerospace Engineer, ANM-116, FAA, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-224-AD.” The postcard will be date stamped and returned to the commenter.

Availability of NPRMs

Any person may obtain a copy of this NPRM by submitting a request to the FAA, Transport Airplane Directorate, ANM-114, Attention: Rules Docket No. 2000-NM-224-AD, 1601 Lind Avenue, SW., Renton, Washington 98055-4056.

Discussion

On December 17, 1999, the FAA issued AD 99-26-18, amendment 39-11478 (64 FR 72531, December 28, 1999) applicable to all British Aerospace (Jetstream) Model 4101 airplanes, to require repetitive inspections to detect loose or migrated levers of the elevator cable tension regulators, and replacement of the regulator assembly with a new assembly, if necessary. That action was prompted by issuance of mandatory continuing airworthiness information by a foreign civil airworthiness authority. The requirements of that AD are intended to detect and correct loose or migrated regulator levers of the elevator cable tension regulators, which could result in reduced controllability of the airplane.

Actions Since Issuance of Previous Rule

In the preamble to AD 99-26-18, the FAA indicated that the action required by that AD was considered “interim action” until final action was identified, at which time further rulemaking might be considered. Since the issuance of AD 99-26-18, British Aerospace has issued Jetstream Service Bulletin J41-27-059, dated May 31, 2000, which describes procedures for modification of the elevator cable tension regulator assembly, which eliminates the need for repetitive inspections of the regulator assembly. The modification involves removing the existing bolt, nut, cotter pin, and washers and installing a new locking clip, sleeves, bolt, nut, cotter pin, and washers. Accomplishment of the actions specified in the service bulletin is intended to adequately address the identified unsafe condition.

Jetstream Service Bulletin J41-27-059 refers to Pacific Scientific Service Bulletin 25-1128, dated April 15, 2000, as an additional source of service information for accomplishment of the modification of the elevator cable tension regulators. Pacific Scientific Company has designed a secondary locking clip, which, when installed under the bolt, will prevent the elevator cable tension regulator from becoming detached from the splined shaft of the regulator assembly.

The Civil Aviation Authority (CAA), which is the airworthiness authority for the United Kingdom, has classified the Jetstream service bulletin as mandatory and issued British airworthiness directive 006-05-2000 in order to assure the continued airworthiness of these airplanes in the United Kingdom.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed AD

Since an unsafe condition has been identified that is likely to exist or develop on other airplanes of the same type design registered in the United States, the proposed AD would supersede AD 99-26-18 to continue to require inspection of the elevator cable tension regulator lever assembly and to require modification of the elevator cable tension regulators. The modification would be required to be accomplished in accordance with Jetstream Service Bulletin J41-27-059.

Cost Impact

There are approximately 57 airplanes of U.S. registry that would be affected by this proposed AD. The repetitive inspection that is currently required by AD 99-26-18 takes approximately 2 work hours per airplane to accomplish, at an average labor rate of $60 per work hour. Based on these figures, the cost impact of the currently required actions on U.S. operators is estimated to be $120 per airplane, per inspection cycle.

The modification that is proposed in this AD would take approximately 6 work hours per airplane to accomplish at an average labor rate of $60 per work hour. There would be no charge for required parts. Based on these figures, the cost impact of the proposed requirements of this AD on U.S. operators is estimated to be $20,520, or $360 per airplane.

The cost impact figures discussed above are based on assumptions that no operator has yet accomplished the requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11478 (64 FR 72531, December 28, 1999), and by adding a new airworthiness directive (AD), to read as follows:

British Aerospace Regional Aircraft [Formerly Jetstream Aircraft Limited British Aerospace (Commercial Aircraft) Limited]: Docket 2000-NM-224-AD. Supersedes AD 99-26-18, Amendment 39-11478.

Applicability: All Model Jetstream 4101 airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent the elevator cable tension regulators from becoming detached from the splined shaft of the assembly, which could result in difficulty adjusting the elevators, leading to reduced controllability of the airplane, accomplish the following:

Restatement of Certain Actions Required by AD 99-26-18

Inspection

(a) Within 7 weeks after February 1, 2000 (the effective date of AD 99-26-18, amendment 39-11478), perform a detailed visual inspection of the elevator cable tension regulator lever assembly to detect discrepancies (including looseness and migration along the splines of the elevator cable tension regulator assembly), in accordance with Jetstream Alert Service Bulletin J41-A-27-053, dated September 14, 1999. Repeat the inspection thereafter at intervals not to exceed 1,500 flight hours until accomplishment of paragraph (c) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Actions Required by This AD

Modification

(b) If any discrepancy is detected during any inspection required by paragraph (a) of this AD: Prior to further flight, perform the requirements of paragraph (c) of this AD.

(c) Except as required by paragraph (b) of this AD: Within 12 months after the effective date of this AD, modify the elevator cable tension regulators in accordance with Jetstream Service Bulletin J41-27-059, dated May 31, 2000.

(d) As of the effective date of this AD, no person shall install any elevator cable tension regulator lever assembly, unless that assembly has been modified in accordance with the requirements of paragraph (c) of this AD.

Alternative Methods of Compliance

(e) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with §§ 21.197 and 21.199 of the Federal Aviation Regulations (14 CFR 21.197 and 21.199) to operate the airplane to a location where the requirements of this AD can be accomplished.

Note 4: The subject of this AD is addressed in British airworthiness directive 006-05-2000.

Issued in Renton, Washington, on November 29, 2000.
Donald L. Riggin,
Acting Manager, Transport Airplane Directorate, Aircraft Certification Service.

[FR Doc. 00-30950 Filed 12-4-00; 8:45 am]

BILLING CODE 4910-13-P